DEPARTMENT OF HEALTH AND HUMAN SERVICES

National Toxicology Program (NTP); Liaison and Scientific Review Office (LSRO); NTP High Throughput Screening Assays Workshop

AGENCY: National Institute of Environmental Health Sciences (NIEHS), National Institutes of Health (NIH).

ACTION: Workshop Announcement and Request for Public Comment.

SUMMARY: The NTP has developed and refined a vision for toxicology in the 21st century (“NTP Vision”) and a roadmap for implementing its vision (“NTP Roadmap”) to strategically place the program at the forefront of providing scientific data and its interpretation for use in public health decision-making (see NTP Web site http://ntp.niehs.nih.gov select “NTP Vision and Roadmap”). As part of the NTP Roadmap, the NTP will convene a series of workshops, including the High Throughput Screening Assays Workshop, to discuss test methods and approaches that will enhance the program's ability to efficiently evaluate the large number of substances in our environment for which there is little or no information about their potential hazard for human health. This workshop is scheduled for December 14-15, 2005, at the Hyatt Regency Crystal City, 2799 Jefferson Davis Highway, Arlington, VA and will focus on providing information about high throughput screening techniques and the potential utility of this technology for toxicology and the NTP. This meeting is open to the public and attendance is limited only by the space available. Individuals may register to attend the workshop on a first-come, first-served basis per the procedures outlined below. A copy of the agenda and any additional information about the workshop, including background materials and participants, will be posted on the NTP Web site when available (see NTP Web site http://ntp.niehs.nih.gov select “Meetings and Workshops”).

DATES: The workshop will be held on December 14-15, 2005. The workshop will begin each day at 8:30 a.m. and end at approximately 5 p.m. on December 14 and approximately 3 p.m. on December 15.

Comments: Written comments should be received by December 5, 2005, to allow time for adequate review before the workshop (see FOR FURTHER INFORMATION CONTACT below). The deadline for registration to present oral comments at the meeting is December 8, 2005.

Registration: Individuals who plan to attend are encouraged to register online at the NTP Web site http://ntp.niehs.nih.gov/ select “Meetings and Workshops” as soon as possible because seating is limited. Persons needing special assistance, such as sign language interpretation or other reasonable accommodation in order to attend, should contact 919-541-2475 voice, 919-541-4644 TTY (text telephone), through the Federal TTY Relay System at 800-877-8339, or by e-mail to niehsoeeo@niehs.nih.gov. Requests should be made at least 7 days in advance of the event.

ADDRESSES: The workshop will be held at the Hyatt Regency Crystal City, 2799 Jefferson Davis Highway, Arlington, VA.

FOR FURTHER INFORMATION CONTACT: Public comments and any other correspondence should be submitted to Dr. Barbara Shane (NTP Liaison and Scientific Review Office, NIEHS, P.O. Box 12233, MD A3-01, Research Triangle Park, NC 27709; telephone: 919-541-4253, fax: 919-541-0295; or e-mail: shane@niehs.nih.gov).

SUPPLEMENTARY INFORMATION:

Background

The High Throughput Screening Assays Workshop will include plenary sessions as well as four simultaneous breakout group sessions for in-depth discussion. Each breakout group will address one of the following topics: (1) The selection of targets and assays for high throughput screening; (2) the conduct of studies including chemical selection, study design, and analytical methods; (3) data storage, analysis, and interpretation; and (4) the application of data from high throughput screening assays in regulatory decision-making. Following the workshop, the NTP will prepare a workshop report and present its proposed strategy to the NTP Board of Scientific Counselors for its consideration and input.

Request for Comments

Public input at this meeting is invited and time is set aside for the presentation of public comments during the plenary session on December 14. Each organization is allowed one speaker during the public comment period. At least 7 minutes will be allotted to each speaker, and if time permits, may be extended to 10 minutes. Registration for oral comments will also be available on-site, although time allowed for presentation by on-site registrants may be less than that for pre-registered speakers and will be determined by the number of persons who register at the meeting.

Written statements can supplement and may expand the oral presentation. If registering on-site and reading from written text, please bring 40 copies of the statement for distribution and to supplement the record. Written comments received in response to this notice will be posted on the NTP Web site (http://ntp.niehs.nih.gov select “Meetings and Workshops”). Persons submitting written comments should include their name, affiliation, mailing address, phone, fax, e-mail, and sponsoring organization (if any) with the document.

Dated: October 13, 2005.
Samuel H. Wilson,
Deputy Director, National Institute of Environmental Health Sciences.

[FR Doc. 05-21130 Filed 10-21-05; 8:45 am]

BILLING CODE 4140-01-P